DEPARTMENT OF THE INTERIOR

National Park Service

Minor Boundary Revision At Virgin Islands National Park

AGENCY: National Park Service, Interior.

ACTION: Announcement of park boundary revision.

SUMMARY: Notice is given that the boundary of the Virgin Islands National Park has been revised pursuant to the Acts as specified below, to encompass lands depicted on Drawing 161/92,009A, Segment 07, Virgin Islands National Park, revised March 30, 2004, prepared by the National Park Service. The revision to the boundary includes tract 07-123, as depicted on the map.

FOR FURTHER INFORMATION CONTACT: Superintendent, Virgin Islands National Park, 1300 Cruz Bay Creek, St. John, Virgin Islands 00830.

SUPPLEMENTARY INFORMATION: The Act of August 2, 1956 (70 Stat. 940) authorized the establishment of the Virgin Islands National Park. Sections 7(c)(i) and 7(c)(ii) of the Land and Water Conservation Fund Act, as amended by the Act of June 10, 1977 (Pub. L. 95-42, 91 Stat. 210), and the Act of March 10, 1980 (Pub. L. 103-333, 110 Stat. 4194) further authorized the Secretary of Interior to make minor revisions in the boundaries whenever the Secretary determines that it is necessary for the preservation, protection, interpretation or management of an area.

The map is on file and available for inspection in the Land Resources Program Center, Southeast Regional Office, 100 Alabama Street, SW., Atlanta, Georgia 30303, and in the Offices of the National Park Service, Department of the Interior, Washington DC 20013-7127.

Dated: March 23, 2005.
Patricia A. Hooks,
Regional Director, Southeast Region.

[FR Doc. 05-9566 Filed 5-12-05; 8:45 am]

BILLING CODE 4312-52-P